SMALL BUSINESS ADMINISTRATION

[Declaration of Disaster #P021]

State of Oregon (Amendment #1)

In accordance with a notice received from the Department of Homeland Security—Federal Emergency Management Agency, effective March 4, 2004, the above numbered declaration is hereby amended to include Harney and Wheeler Counties for Public Assistance in the State of Oregon as disaster areas due to damages caused by severe winter storms occurring on December 26, 2003 and continuing through January 14, 2004.

All other information remains the same, i.e., the deadline for filing applications for physical damage is April 19, 2004.

(Catalog of Federal Domestic Assistance Program Nos. 59008).
Dated: March 10, 2004.
Herbert L. Mitchell,
Associate Administrator for Disaster Assistance.

[FR Doc. 04-5869 Filed 3-15-04; 8:45 am]

BILLING CODE 8025-01-P